DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Population Survey, June 2004 Fertility Supplement.

Form Number(s): None.

Agency Approval Number: 0607-0610.

Type of Request: Reinstatement, with change.

Burden: 250 hours.

Number of Respondents: 30,000.

Avg Hours Per Response: 30 seconds.

Needs and Uses: The purpose of this request for review is to obtain the Office of Management and Budget (OMB) clearance for the Current Population Survey (CPS) June 2004 Fertility Supplement. This supplement continues the fertility data series that has been asked periodically since 1971. This supplement is sponsored by the U.S Census Bureau.

The fertility questions will be asked of females 15-44 years of age. The June 2004 Fertility Supplement, like the June 2002 Fertility Supplement, differs from 1998 and 1995 June supplements because it only includes fertility items. The 1998 supplement contained fertility and birth expectations items. The 1995 supplement contained fertility and marital history items.

The data collected from this supplement are used primarily by government and private analysts to project future population growth, to analyze childbearing patterns, and to assist policymakers in making decisions that are affected by changes in family size and composition. Past studies have documented profound changes to historical patterns that have occurred in fertility rates, family structures, premarital births, and the timing of the first birth. The CPS characteristics, such as family income, household relationships, and part- or full-time work status, when matched with fertility data, can produce estimates of potential needs families may have for governmental assistance: for example, aid to families with dependent children, child care, and maternal health care for single-parent households. The fertility data also assist researchers and analysts who explore such important issues as premarital childbearing and postponement of childbirth because of educational or occupational responsibilities and goals.

Affected Public: Individuals or households.

Frequency: On occasion.

Respondent's Obligation: Voluntary.

Legal Authority: Title 13 U.S.C., Section 182.

OMB Desk Officer: Susan Schechter, (202) 395-5103.

Copies of the above information collection proposal can be obtained by calling or writing Diana Hynek, Departmental Paperwork Clearance Officer, (202)482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: March 19, 2004.
Madeleine Clayton,
Management Analyst, Office of the Chief Information Officer.

[FR Doc. 04-6600 Filed 3-23-04; 8:45 am]

BILLING CODE 3510-07-P